TENNESSEE VALLEY AUTHORITY

Natural Resource Plan in Alabama, Georgia, Kentucky, Mississippi, North Carolina, Tennessee, and Virginia

AGENCY: Tennessee Valley Authority.

ACTION: Issuance of record of decision.

SUMMARY: The Tennessee Valley Authority (TVA) has decided to adopt the preferred alternative in its final supplemental environmental impact statement (SEIS) for the Natural Resource Plan (NRP). The TVA Board of Directors (Board) accepted the NRP and authorized TVA's Chief Executive Officer to implement the preferred alternative at its May 7, 2020, meeting. This alternative updates the NRP and will guide TVA's natural resource management over the next 20 years.

FOR FURTHER INFORMATION CONTACT: Matthew Higdon, NEPA Specialist, Tennessee Valley Authority, 400 West Summit Hill Drive, WT 11B-K, Knoxville, Tennessee 37902-1499. Telephone 865-632-8051. Email: mshigdon@tva.gov. Ben Bean, NRP Project Manager, Tennessee Valley Authority, 3941 Brashers Chapel Road, Guntersville, Alabama 35976. Telephone: 256-891-6611. Email: bjbean@tva.gov.

SUPPLEMENTARY INFORMATION: This notice is provided in accordance with the Council on Environmental Quality's regulations (40 CFR parts 1500 to 1508) and TVA's procedures for implementing the National Environmental Policy Act (NEPA; 18 CFR part 1318).

TVA is an agency and instrumentality of the United States, established by an act of Congress in 1933, to foster the social and economic welfare of the people of the Tennessee Valley region and to promote the proper use and conservation of the region's natural resources. TVA's threefold mission is to provide affordable and reliable power, promote sustainable economic development, and act as a steward of the Valley's natural resources. The lands managed by TVA in the name of the United States of America are some of the most important resources of the region. These lands include approximately 293,000 acres associated with the TVA reservoir system that are managed for the benefit of the public. Most of these lands remain undeveloped and are managed by TVA to provide natural resource conservation, recreation, and the protection of cultural resources.

In 2011, TVA completed its first NRP to guide its natural resource stewardship efforts. After considering alternative approaches to resource management, the Board adopted a Blended Management alternative as the NRP because it aligned best with TVA's Environmental Policy, focused on key programs that establish a baseline for future enhanced implementation efforts, and provided flexibility to use partnerships and other sources of funding to leverage programs to their full potential while working within resource and staff constraints (75 FR 57100, September 15, 2011). The 2011 NRP addressed TVA's management of programs and activities for six resource areas: Biological, cultural, and water resources; recreation; reservoir lands planning; and public engagement.

In the 2011 NRP, TVA committed to reviewing the NRP every five years and updating the plan as needed to ensure it remains relevant and current. In 2016, as part of the NRP review process, TVA staff reviewed the NRP and determined that a Blended Management approach continues to be the most appropriate and effective plan for managing the waters and public lands of the Tennessee River Valley. However, TVA determined that because the 2011 NRP did not encompass all of the resource stewardship programs managed by TVA, the NRP was not fully serving as the comprehensive strategic guide as was first envisioned. Based on this assessment, TVA determined that updating the NRP was the best path forward to address identified concerns. After developing the initial scope of changes needed, TVA initiated a NEPA review to supplement the 2011 Environmental Impact Statement.

Alternatives Considered

Consistent with the requirements of NEPA, TVA analyzed two alternatives in the NRP SEIS. Under the No Action alternative (identified as Alternative A in the SEIS), TVA would not change the Blended Management approach outlined in the 2011 NRP to address management, programs, and activities for six resource areas.

Under its Proposed Action alternative (identified as Alternative B in the SEIS), TVA would continue implementing a Blended Management approach and update the NRP such that it would serve as a strategic document that addresses focus areas along with their programs, objectives, and anticipated benefits. Existing and proposed programs would be categorized into ten proposed focus areas, which represents an expansion of the NRP's focus from the original six resource areas to the ten focus areas that encompass the entire scope of TVA's natural resource stewardship efforts. The new focus areas in the updated NRP would address Section 26a Permits and Land Use Agreements; Public Land Protection; and Ecotourism. In addition, Nuisance and Invasive Species Management, which was addressed on a limited basis in the 2011 NRP, would be included in the updated NRP as the Nuisance and Invasive Species Management Focus Area. There are six resource areas in the 2011 NRP that would be carried forward to the updated NRP with changes to their names, programs, and/or activities: Reservoir Lands Planning; Land and Habitat Stewardship; Cultural Resource Management; Water Resources Stewardship; Recreation; and Public Outreach and Information. TVA would develop five-year action plans that guide implementation of the NRP. In the draft and final SEIS, TVA identified the Proposed Action alternative as its preferred alternative.

Public Involvement

On July 16, 2018, TVA published in the Federal Register a Notice of Intent (Notice) to conduct the environmental review of a proposed NRP update in accordance with NEPA and published information about the review and planning effort on the TVA web page (83 FR 32945, July 16, 2018). The Notice initiated a 30-day public scoping period, which concluded on August 20, 2018. TVA also issued a press release announcing that public input was being sought on the proposed update to the NRP and placed newspaper advertisements in 37 newspapers around the region to provide notice of the review, public scoping meetings, and to invite public comments. Media outlets across the region published or broadcast stories based on the release. TVA also notified approximately 250 individuals, organizations, and intergovernmental partners with an interest in the review or with prior involvement in TVA stewardship efforts.

TVA hosted four public scoping meetings at locations throughout the Tennessee Valley: Knoxville, Tennessee; Chattanooga, Tennessee; Muscle Shoals, Alabama; and Buchanan, Tennessee. The four public meetings were attended by a total of 66 people. TVA also hosted a public webinar to provide the public another opportunity to obtain information on the proposed update to the NRP; 28 people registered for the webinar.

On May 17, 2019, TVA issued the Draft NRP and Draft SEIS for public review and comment. The Environmental Protection Agency (EPA) published in the Federal Register a Notice of Availability on May 24, 2019, initiating a 45-day comment period (84 FR 24135, May 24, 2019). TVA provided notice to interested parties and published 37 newspaper advertisements around the region to notify the public of the release of the Draft NRP and Draft SEIS and that TVA would be hosting public open houses during the review period. In June 2019, TVA held four open houses to provide information and obtain public input on the proposed NRP updates. The open houses were held in Knoxville, Chattanooga, and Camden, Tennessee, and Muscle Shoals, Alabama. In addition, TVA hosted a webinar that included a presentation and question and answer session. During the 45-day public comment period, TVA received 19 submissions from the public, organizations, and state and Federal agencies.

After careful consideration of and response to all comments and refinement of the focus areas and their objectives and anticipated benefits, TVA issued the Final NRP and Final SEIS on February 14, 2020. A notice of availability for the Final NRP and Final SEIS was published in the Federal Register (85 FR 8585, February 14, 2020).

Throughout the NEPA process, TVA maintained a web page (http://www.tva.gov/nrp) to publish information and materials related to its proposal, including information about the NRP, meeting information, project updates, webinar presentations, relevant documents, and contact information.

Environmentally Preferred Alternative

TVA's Proposed Action, identified as Alternative B in the SEIS, is the environmentally preferred alternative. Under this alternative, the NRP would become a strategic document which includes focus area programs, objectives and anticipated benefits, and introduces four additional focus areas into the NRP. In addition, the five-year action plans provide a tactical approach to implement the specific activities associated with the ten focus areas' programs. This new framework would allow TVA to adapt more quickly to changes in interests, needs, and funding. Depending on the type and location of activities, there could be minor to moderate beneficial impacts on environmental resources on TVA lands. TVA also anticipates that the NRP's five-year action plans would likely result in more effective prioritization of future, site-specific projects that address environmental resources on TVA lands.

Comments on the Final SEIS

After publication of the Final SEIS, EPA provided comments to TVA in support of the proposed NRP and, in particular, TVA's intent to prepare annual updates of the five-year action plans. The EPA recommended that TVA continue to reevaluate the NRP as additional future programs become available and that the public remain involved in any NEPA document development for future changes to the NRP.

Errata

After publication of the Final SEIS, TVA found that there were minor differences between the depiction of the Land Use Planning Focus Area objectives in the main body of the NRP and the depictions included in the NRP's Executive Summary and the SEIS. The objectives described in the NRP Executive Summary correctly matched the SEIS, and TVA has updated the NRP accordingly. In addition, the title of one Public Land Protection Focus Area program in the main body of the NRP has been revised to match the title in the NRP Executive Summary and SEIS.

Decision

On May 7, 2020, the Board determined that updating the NRP as proposed and reviewed by TVA in the SEIS was in the best interest of TVA, and the Board accepted the proposed update and authorized its implementation by the TVA Chief Executive Officer. This decision was based on that alternative supporting a more strategic, flexible, and comprehensive approach to TVA's natural and cultural resource stewardship work and the corresponding benefits to stakeholders, customers, and the public.

Mitigation Measures

The natural and cultural resource management programs and activities associated with the NRP have been designed to result in minimal adverse environmental impacts during their implementation and to result in long-term beneficial impacts. During implementation of the NRP, TVA will continue to conduct site- or activity-specific environmental reviews of its actions as appropriate and will incorporate appropriate mitigation measures, including those identified through associated consultation processes, to address adverse impacts. In January 2020, TVA completed a programmatic agreement (PA) with the Advisory Council on Historic Preservation and seven State Historic Preservation Officers to address a suite of activities. In addition, 21 federally recognized Indian tribes were invited to be signatories to the agreement. The PA addresses TVA's compliance with Section 106 of the National Historic Preservation Act when implementing the various NRP activities.

David L. Bowling, Jr.
Vice President, River and Resources Stewardship.

[FR Doc. 2020-14846 Filed 7-9-20; 8:45 am]

BILLING CODE 8120-08-P